DEPARTMENT OF COMMERCE

International Trade Administration

[A-549-813]

Notice of Final Results of Antidumping Duty Administrative Review and Recission of Administrative Review in Part: Canned Pineapple Fruit From Thailand

AGENCY: Import Administration, International Trade Administration, Department of Commerce.

SUMMARY: On April 10, 2001, the Department of Commerce (the Department) published the preliminary results of its administrative review of the antidumping duty order on canned pineapple fruit (CPF) from Thailand. This review covers ten producers/exporters of the subject merchandise. The period of review (POR) is July 1, 1999, through June 30, 2000. Based on our analysis of comments received, these final results differ from the preliminary results. The final results are listed below in the “Final Results of Review” section.

EFFECTIVE DATE: October 17, 2001.

FOR FURTHER INFORMATION CONTACT: David Layton or Charles Riggle, Office 5, Group II, AD/CVD Enforcement, Import Administration, International Trade Administration, U.S. Department of Commerce, 14th Street and Constitution Avenue, NW, Washington, DC 20230; telephone: (202) 482-0371 and (202) 482-0650, respectively.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department regulations are references to the provisions codified at 19 CFR part 351 (2001).

Background

This review covers the following producers/exporters of merchandise subject to the antidumping duty order on canned pineapple fruit from Thailand: Vita Food Factory (1989) Co., Ltd. (Vita), Kuiburi Fruit Canning Company Limited (KFC), Malee Sampran Public Co., Ltd. (Malee); Siam Food Products Public Co. Ltd. (SFP), The Thai Pineapple Public Co., Ltd. (TIPCO), Thai Pineapple Canning Industry (TPC), and Dole Food Company, Inc., Dole Packaged Foods Company, and Dole Thailand, Ltd. (collectively, Dole); and Siam Fruit Canning (1988) Co., Ltd. (SIFCO).

On September 12, 2000 and September 15, 2000 respectively, in response to the Department's questionnaire, Prachuab Fruit Canning Company (Praft) and Siam Agro Industry Pineapple and Others Co., Ltd. (SAICO) stated that they made no shipments to the United States of the subject merchandise during the POR.

On April 10, 2001, the Department published the preliminary results of this review. See Notice of Preliminary Results of Antidumping Duty Administrative Review: Canned Pineapple Fruit From Thailand, 66 FR 18596 (Preliminary Results). Consistent with the preliminary results, we are rescinding the review with respect to Praft and SAICO. On May 14-18 we verified information provided by SIFCO. On July 9 and 16, 2001, we received case briefs and/or rebuttal briefs, respectively, from the petitioners,¹ Dole, KFC, Malee, SIFCO, TIPCO and Vita. On July 23, 2001 a public hearing was held.

¹ The petitioners in this case are Maui Pineapple Company and the International Longshoremen's and Warehousemen's Union.

Scope of Review

The product covered by this review is CPF. CPF is defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (HTSUS). HTSUS 2008.20.0010 covers CPF packed in a sugar-based syrup; HTSUS 2008.20.0090 covers CPF packed without added sugar (i.e., juice-packed). Although these HTSUS subheadings are provided for convenience and for customs purposes, our written description of the scope is dispositive.

Analysis of Comments Received

All issues raised in the case and rebuttal briefs by parties to this review are addressed in the “Issues and Decision Memorandum” (Decision Memorandum) from Bernard T. Carreau, Deputy Assistant Secretary, Import Administration, to Faryar Shirzad, Assistant Secretary for Import Administration, dated October 9, 2001, which is hereby adopted by this notice.

A list of the issues which parties have raised and to which we have responded, all of which are in the Decision Memorandum, is attached to this notice as an Appendix. Parties can find a complete discussion of all issues raised in this review and the corresponding recommendations in this public memorandum, which is on file in the Central Records Unit, room B-099 of the main Commerce building.

In addition, a complete version of the Decision Memorandum can be accessed directly on the Internet at http://ia.ita.doc.gov/. The paper copy and electronic version of the Decision Memorandum are identical in content.

Fair Value Comparisons

We calculated export price and normal value based on the same methodology used in the preliminary results. We corrected clerical errors with respect to Dole, KFC, SIFCO and Vita.

Cost of Production

We calculated the cost of production (COP) for the merchandise based on the same methodology used in the preliminary results, with the exception of SIFCO. For SIFCO, we calculated a cost for juice used as packing medium and corrected clerical input errors in its COP database that we found at verification.

Final Results of Review

As a result of our review, we determine that the following weighted-average percentage margins exist for the period July 1, 1998, through June 30, 1999:

Manufacturer/exporter | Margin (percent)
Siam Food Products Company Ltd. (SFP) | 0.18
Dole Food Company, Inc. (Dole) | 0.49
The Thai Pineapple Public Company, Ltd. (TIPCO) | 4.74
Kuiburi Fruit Canning Co. Ltd. (KFC) | 1.15
Thai Pineapple Canning Industry (TPC) | 2.33
Siam Fruit Canning (1988) Co. Ltd. (SIFCO) | 2.76
Vita Food Factory (1989) Co. Ltd. (Vita) | 2.77
Malee Sampran Public Co., Ltd. (Malee) | 10.45

The Department shall determine, and the Customs Service shall assess, antidumping duties on all appropriate entries. In accordance with 19 CFR 351.212(b)(1), we have calculated importer-specific assessment rates by dividing the dumping margin found on the subject merchandise examined by the entered value of such merchandise. Where the importer-specific assessment rate is above de minimis we will instruct the Customs Service to assess antidumping duties on that importer's entries of subject merchandise.

Furthermore, the following deposit requirements will be effective for all shipments of the subject merchandise entered, or withdrawn from warehouse, for consumption on or after the publication date of these final results of administrative review, as provided by section 751(a) of the Act: (1) For the companies named above, the cash deposit rate will be the rate listed above, except where the margins are zero or de minimis no cash deposit will be required, (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 24.64 percent, the all-others rate established in the less-than-fair-value investigation. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return/destruction or conversion to judicial protective order of proprietary information disclosed under APO in accordance with 19 CFR 351.305(a)(3). Failure to comply is a violation of the APO.

This determination is issued and published in accordance with sections 751(a)(1) and 777(i)(1) of the Act.

Dated: October 9, 2001.
Faryar Shirzad,
Assistant Secretary for Import Administration.

Appendix

Issues Covered in Decision Memorandum

I. Issues Specific to Dole

Comment 1: Additional U.S. Sales Presented at Verification

Comment 2: Calculation of General and Administrative Expense (G&A) and Financial Expense Ratios

Comment 3: Imputed Credit Expenses

Comment 4: Reseller's Profit

Comment 5: Fruit Cost Allocation

Comment 6: Correction of Errors in Database

Comment 7: Early Payment Discounts

Comment 8: Clerical Error Allegation

II. Issue Specific to KFC

Comment 9: Clerical Error Allegation

III. Issues Specific to Malee

Comment 10: Treatment of Negative Margins

Comment 11: Use of Entry Date to Establish the Universe of Sales Examined

IV. Issues Specific to SIFCO

Comment 12: Date of Sale: Contract Date vs. Invoice Date

Comment 13: Additional Sales Found at Verification and Use of Facts Available

Comment 14: Allocation of Separate Natural Juice Packing Medium Costs

Comment 15: Correction of Errors in Database

V. Issues Specific to TIPCO

Comment 16: Export Price (EP) vs. Constructed Export Price (CEP)

Comment 17: Offset to G&A

Comment 18: Calculation of Interest Expense Ratio

VI. Issue Specific to Vita

Comment 19: Clerical Error Allegation

[FR Doc. 01-26124 Filed 10-16-01; 8:45 am]

BILLING CODE 3510-DS-P